DEPARTMENT OF AGRICULTURE

Agricultural Marketing Service

7 CFR Part 205

[Document Number AMS-NOP-16-0069; NOP-16-08]

National Organic Program: Notice of Interim Instruction on Material Review

AGENCY: Agricultural Marketing Service, USDA.

ACTION: Notice of availability of interim instruction with request for comments.

SUMMARY: The Agricultural Marketing Service (AMS) is announcing the availability of an interim instruction document intended for use by accredited certifying agents. The interim instruction document is entitled: NOP 3012: Material Review. This instruction specifies the criteria and process that USDA accredited organic certifying agents (certifiers) must follow when approving substances for use in organic production and handling. This instruction is directed at certifiers, who must meet certain terms and conditions as part of their accreditation. The AMS invites interested parties to submit comments about this instruction document.

DATES: To ensure that NOP considers your comment on this interim instruction before it begins work on the final version, submit written comments on the interim instruction by October 31, 2016.

ADDRESSES: Submit written requests for hard copies of this interim instruction to Dr. Paul Lewis, Standards Division, National Organic Program (NOP), USDA-AMS-NOP, 1400 Independence Ave. SW., Room 2646—So., Ag Stop 0268, Washington, DC 20250-0268. See the SUPPLEMENTARY INFORMATION section for electronic access to the interim instruction document.

You may submit comments, identified by AMS-NOP-16-0069; NOP-16-08, by any of the following methods:

• Federal eRulemaking Portal: http://www.regulations.gov. Follow the instructions for submitting comments.

• Mail: Dr. Paul Lewis, Standards Division, National Organic Program, USDA-AMS-NOP, 1400 Independence Ave. SW., Room 2646—So., Ag Stop 0268, Washington, DC 20250-0268.

Instructions: Written comments responding to this request should be identified with the document number AMS-NOP-16-0069; NOP-16-08. You should clearly indicate your position and the reasons supporting your position. If you are suggesting changes to the interim instruction document, you should include recommended language changes, as appropriate, along with any relevant supporting documentation.

USDA intends to make available all comments, including names and addresses when provided, regardless of submission procedure used, on www.regulations.gov and at USDA, AMS, NOP, Room 2646—South building, 1400 Independence Ave. SW., Washington, DC, from 9 a.m. to noon and from 1 to 4 p.m., Monday through Friday (except official Federal holidays). Persons wanting to visit the USDA South building to view comments from the public to this notice are requested to make an appointment by calling (202) 720-3252.

FOR FURTHER INFORMATION CONTACT: Dr. Paul Lewis, Standards Director, National Organic Program (NOP), USDA-AMS-NOP, 1400 Independence Ave. SW., Room 2646—So., Ag Stop 0268, Washington, DC 20250-0268; Telephone: (202) 720-3252; Fax: (202) 205-7808; Email: PaulI.Lewis@ams.usda.gov; or visit the NOP Web site at: www.ams.usda.gov/nop.

SUPPLEMENTARY INFORMATION:

I. Background

This interim instruction specifies the criteria and process that accredited certifying agents (certifiers) must follow when approving substances for use in organic production and handling. This instruction is directed at certifiers, who must meet certain terms and conditions as part of their accreditation (see 7 CFR 205.501(a)(21)).

The instruction defines the term Material Review Organization (MRO) and materials, and describes the USDA organic regulations as they relate to materials reviews. The instruction describes the policy that all certifiers must review all materials used by organic producers and handlers for compliance with the USDA organic regulations, and outlines options that certifiers have for determining whether materials may be used in organic production or handling under the USDA organic regulations.

The instruction also outlines certifier requirements for maintaining documentation, making synthetic vs. nonsynthetic or agricultural vs. nonagricultural determinations; demonstrating appropriate education, training, and experience levels for personnel conducting material reviews; and creating clear written protocols and procedures related to materials reviews. This instruction also outlines the process that occurs when different certifying agents and MROs reach different conclusions on whether a product complies with the USDA organic regulations.

A notice of availability of the final instruction on this topic will be issued upon review of comments and final approval of the document. Upon final approval, this instruction will be available in “The Program Handbook: Guidance and Instructions for Accredited Certifying Agents (ACAs) and Certified Operations”. This Handbook provides those who own, manage, or certify organic operations with guidance and instructions that can assist them in complying with the USDA organic regulations. The current edition of the Program Handbook is available online at http://www.ams.usda.gov/rules-regulations/organic.

II. Electronic Access

Persons with access to Internet may obtain the interim instruction at either NOP's Web site at http://www.ams.usda.gov/rules-regulations/organic or http://www.regulations.gov. Requests for hard copies of the interim instruction document can be obtained by submitting a written request to the mailing address listed in the ADDRESSES section of this Notice.

Authority: 7 U.S.C. 6501-6522.

Dated: August 25, 2016.
Elanor Starmer,
Administrator, Agricultural Marketing Service.

[FR Doc. 2016-20806 Filed 8-29-16; 8:45 am]

BILLING CODE 3410-02-P